DEPARTMENT OF HEALTH AND HUMAN SERVICES

Centers for Disease Control and Prevention

Disease, Disability, and Injury Prevention and Control Special Emphasis Panel: Strengthening National Capacity in Malaria and Other Infectious Disease Operations Research, Funding Opportunity Announcement (FOA), CK09-004, Initial Review

Time and Date: 11 a.m.-2 p.m., July 29, 2009.

Correction: This notice was published in the Federal Register on July 13, 2009, Volume 74, Number 132, pages 33450-33451. The original notice was published with an incorrect time and date.

Contact Person for More Information: Wendy Carr, PhD, CDC, 1600 Clifton Road, NE., Mailstop E60, Atlanta, GA 30333. Telephone (404) 498-2276.

The Director, Management Analysis and Services Office, has been delegated the authority to sign Federal Register notices pertaining to announcements of meetings and other committee management activities, for both CDC and the Agency for Toxic Substances and Disease Registry.

Dated: July 17, 2009.
Elaine L. Baker,
Director, Management Analysis and Services Office, Centers for Disease Control and Prevention.

[FR Doc. E9-17673 Filed 7-23-09; 8:45 am]

BILLING CODE 4163-18-P